ENVIRONMENTAL PROTECTION AGENCY

[Docket No. W-00-16; FRL-7068-4]

Availability of Draft Ballast Water Report and Request for Comments

AGENCY: Environmental Protection Agency (EPA).

ACTION: Notice of document availability with request for comments.

SUMMARY: This notice announces the availability of a draft Ballast Water Report (Report), which summarizes the results of a study on aquatic nuisance species (ANS) in ballast water discharges, and recommends actions that EPA, working with other agencies, should take to address the issue. We are seeking public comment on this draft Report and its recommendations.

DATES: Submit comments on or before January 11, 2002.

ADDRESSES: The record for this notice is available for inspection from 9 a.m. to 4 p.m., Monday through Friday, excluding Federal holidays at the Water Docket, 401 M Street SW, East Tower Basement (Room EB 57), Washington, DC 20460. The record includes the subject draft Report and supporting documents. For access to the Docket materials, please call (202) 260-3027 to schedule an appointment.

Please send requests for a copy of the draft Report, or written comments on the Report, to: W-00-16 Ballast Water Comment Clerk, Water Docket (MC-4101), 1200 Pennsylvania Avenue, NW., Washington, DC 20460. Hand deliveries should be made to the Water Docket at 401 M Street, SW., East Tower Basement (Room EB 57), Washington, DC 20460. Please submit an original and three copies of your comments and enclosures (including references).

The draft Report can also be downloaded from internet address http://www.epa.gov/owow/invasive_species/petition.html. Comments on the draft Report may be submitted by electronic mail (e-mail) to Ballast.Water@epa.gov. To avoid duplication of comments in the comment record, please do not send the same comments by paper copy and email.

FOR FURTHER INFORMATION CONTACT: John Heisler at (202) 260-8632 or Ruby Cooper-Ford at (202) 564-0757.

SUPPLEMENTARY INFORMATION: In response to a petition received from the Pacific Environmental Advocacy Center to EPA on January 13, 1999, and in support of Executive Order 13112, “Invasive Species,” signed on February 3, 1999, EPA undertook a Ballast Water Study (Study) to: (1) Assess the issue of ANS from ballast water discharges, (2) research and report what mechanisms are available under the Clean Water Act (CWA) or other statutes to effectively control the introduction of ANS in ballast water, and (3) recommend actions we should take to address the issue.

As part of this Study, EPA developed the draft Report to generate public discussion on this matter. The draft Report includes the following:

(1) A survey of existing Federal, State and international actions to address ANS.

(2) Options for controlling ballast water through legal, technical and practical mechanisms.

(3) A list of additional non-regulatory and regulatory actions that the EPA and other agencies might take to minimize the spread of invasive ANS in ballast water; and

(4) Other relevant factors and considerations.

As the draft Report states, the Study concluded that the threat of ANS introduction from ballast water discharges is real, and that EPA has an appropriate role in mitigating that threat. The Report recommends against establishing a regulatory program for ballast water discharges under the CWA at this time.

The Report suggests that the greatest barrier to effectively preventing the threat of ANS introductions from ballast water, which has to be resolved, is the lack of effective and affordable technologies for treating ballast water to remove or reduce the ANS threat. Those technologies are rapidly emerging and expected to be widely available in several years.

The Study examined the U.S. Coast Guard's ballast water program under the National Invasive Species Act (NISA) of 1996, the work of the Aquatic Nuisance Species Task Force under NISA, and the interagency efforts established under Executive Order 13112. The Study concluded that although the NISA program in its current form probably does not sufficiently protect against ANS spread from ballast water discharges, the primary impediments to its success (i.e., the lack of ballast water treatment technologies, and the lack of comprehensive mandatory ballast water treatment standards) are waning. The Coast Guard is expected to take several actions in the near future to better incorporate new and more effective ballast water treatment technologies into its ballast water program. EPA believes those actions, coupled with availability of new treatment technologies, provide the most effective approach for preventing ANS introductions from ballast water.

Based on its findings, the draft Report proposes recommendations that EPA work with the Coast Guard and other stakeholders to foster the rapid development of ballast water treatment technologies, and support the Coast Guard regulatory program to ensure that it is as effective as possible against ANS spread.

The Report makes the following specific draft recommendations for addressing the issue:

a. Actively promote research, outreach, and technology development through participation in the ANS Task Force, the Invasive Species Council, and their appropriate committees and working groups on ballast water.

b. Promote technology development, for example through its Environmental Technology Verification (ETV), Small Business Innovative Research, and Green Ships and Green Ports programs.

c. Establish the prevention of ANS introductions as an EPA research priority.

d. Provide technical assistance to ANS research projects initiated or funded by the National Oceanic and Atmospheric Administration (NOAA), the U.S. Fish and Wildlife Service (USFWS), the U.S. Coast Guard, or other government, academic, or non-governmental organizations.

e. Support the U.S. Coast Guard's efforts to evaluate the effectiveness of its regulations and to revise them, if necessary, to enhance their effectiveness in preventing ANS introductions, including the development of domestic ballast water standards and encouraging the development and adoption of new technologies.

f. Continue EPA's participation on the U.S. delegation to the Ballast Water Working Group of the Marine Environmental Protection Committee of the International Maritime Organization, which is working toward an international ballast water agreement, including developing standards.

g. Encourage public participation and education/outreach (e.g., through the National Estuary Programs, Great Waters Programs, Aquatic Nuisance Species Task Force (ANSTF), National Invasive Species Council, Interagency Committee on the Marine Transportation System, and web sites).

h. Work with the U.S. Coast Guard to maximize compliance with the National Invasive Species Act (NISA) regulations at 33 CFR 151 by:

1. Providing technical assistance, coordination, and advocacy support to U.S. Coast Guard outreach, education, and research projects; and

2. Participating actively on the ANSTF, its regional Panels, and its Ballast Water Committees.

i. In cooperation with other Federal agencies, engage the regulated community in a government-shipper partnership emphasizing the use of Environmental Management Systems to address all aspects of ship-borne transfers of ANS, by:

1. Formally recognizing the efforts of shipping interests which commit to real, significant actions that reduce the risk of ANS transfer;

2. Providing technical assistance, coordination, and where appropriate, financial support to shippers projects designed to address ANS; and

3. Where appropriate, providing regulatory flexibility for ANS prevention projects using EPA's Project XL Program.

j. Provide encouragement for national consistency and coordination to State and local governments' efforts to control ANS invasion from ballast water.

k. Develop EPA's Invasive Species Management Plan to identify appropriate EPA-specific activities to implement the Invasive Species Council's National Invasive Species Management Plan.

l. Use EPA's authority to review NEPA documents and other documentation, to promote the adequate consideration of the effects of ANS in Federal actions which involve ballast water.

m. Defer consideration of the application of NPDES permits to ballast water discharges pending these actions. The effectiveness of other programs, including the level of compliance with the Coast Guard's program under NISA, will be a factor in EPA's future consideration of this issue.

The following documents are available from the W-00-16 Water Docket, and are also available at the internet address listed above:

1. Petition to EPA to regulate ballast water under NPDES, dated January 13, 1999.

2. Letter from the Assistant Administrator for Water, to petitioner, dated April 6, 1999.

3. Written comments received on the petition prior to release of the draft Ballast Water Report.

4. Draft Ballast Water Report.

Dated: September 21, 2001.
G. Tracy Mehan, III,
Assistant Administrator, Office of Water.

[FR Doc. 01-24193 Filed 9-26-01; 8:45 am]

BILLING CODE 6560-50-P